DEPARTMENT OF COMMERCE

International Trade Administration

[A-580-816]

Corrosion-Resistant Carbon Steel Flat Products From Korea: Partial Rescission of Antidumping Duty Administrative Review

AGENCY: Import Administration, International Trade Administration, U.S. Department of Commerce.

ACTION: Notice of partial rescission of the antidumping duty administrative review; correction.

SUMMARY: On May 5, 2004, the Department of Commerce (“Department”) published a notice in the Federal Register regarding a partial rescission of antidumping duty administrative review of corrosion-resistant carbon steel flat products from Korea. See Corrosion-Resistant Carbon Steel Flat Products From Korea: Partial Rescission of Antidumping Duty Administrative Review 69 FR 25059, 25060 (May 5, 2004) (“Rescission Notice”). This document inadvertently did not address a comment raised by an interested party.

EFFECTIVE DATE: June 22, 2004.

FOR FURTHER INFORMATION CONTACT: John D. A. LaRose, Enforcement Group III, Office 9, Import Administration, International Trade Administration, U.S. Department of Commerce, 1401 Constitution Avenue, NW., Washington, DC 20230; telephone: 202-482-3794.

SUPPLEMENTARY INFORMATION:

Background

On August 29, 2003, International Steel Group requested that the Department conduct an administrative review of the antidumping duty order on Korean CORE for the period August 1, 2002 through July 31, 2003. On July 1, 2003, the Department published a notice of initiation of the antidumping administrative review of Korean CORE, in accordance with 19 CFR 351.221(c)(1)(i). See Initiation of Antidumping and Countervailing Duty Administrative Reviews, Requests for Revocations in Part, 68 FR 56262 (September 30, 2003). This review covers several exporters of the subject merchandise, including SeAH. On October 9, 2003, SeAH submitted a timely letter stating that the company and its affiliates did not have exports or sales of the subject merchandise to the United States during the POR. The letter also requested that the Department terminate the administrative review with respect to SeAH.

After receiving SeAH's letter, the Department examined the online U.S. Customs and Border Protection (“CBP”) listing of entries suspended under the order and confirmed that SeAH had no entries during the POR. On October 23, 2003, the Department also sent an electronic message to CBP requesting that CBP officials report any known entries of subject merchandise from SeAH during the POR. In its message to CBP, the Department stated that no reply was required if CBP officials were not aware of any entries. By the deadline stated in our request, the Department received no reply. On March 15, 2004, the Department provided interested parties with a draft rescission, soliciting comments by March 22, 2004. See Memorandum to Edward Yang from Lisa Shishido Regarding Intent to Partially Rescind the Antidumping Duty Administrative Review of Korean Core, dated March 15, 2004.

Comments From Interested Parties

On March 23, 2004, United States Steel Corporation (“Petitioner”) submitted comments. The Petitioner argues that it is incorrect to assume that because the Department received no reply from CBP, there were no entries by SeAH of subject merchandise. Petitioner argues that CBP simply may not have completed its investigation. Moreover, Petitioner argues that CBP may not have even begun to examine this issue and that unless the Department receives an affirmative response from CBP stating that SeAH had no entries of subject merchandise during the POI, the Department should not rescind this review.

Department's Position

Pursuant to the Department's regulations, the Department will rescind an administrative review “with respect to a particular exporter or producer, if the Secretary concludes that, during the period covered by the review, there were no entries, exports, or sales of the subject merchandise, as the case may be.” See 19 CFR 351.213(d)(3).

There is sufficient information on the record to establish that SeAH had no entries, exports or sales of subject merchandise during the period of review. Specifically, SeAH submitted a letter asserting that neither the company nor its affiliates had any entries, exports or sales of subject merchandise during the POR. Moreover, after receiving SeAH's letter, the Department conducted an independent review of CBP data and confirmed that SeAH had no entries of subject merchandise during the POR. As noted in the preliminary rescission notice, “the Department also examined the online CBP listing of entries suspended under the order and found no SeAH entries during the POR.” See Rescission Notice at 25059. Finally, after being notified of our findings, CBP has not provided the Department with any information indicating that SeAH had any entries of subject merchandise during the POR.

The Department has determined that SeAH's certification and the Department's inquiry, as structured, are sufficient evidence on the record to establish the lack of entries, exports or sales for SeAH during the period of review. In reaching this conclusion, we note that the CIT has stated that it will defer to the Department's “sensibility as to the depth of the inquiry needed” in such matters. See Allegheny Ludlum Corp. v. United States, 276 F.Supp.2d 1344, 1356, (2003).

Therefore, because we received no information from CBP that SeAH has entries of subject merchandise during the POR, found no evidence of such entries in a review of import data and there is no evidence on the record to suggest otherwise, we affirm our determination to rescind the administrative review for the period August 1, 2002 through July 31, 2003, with respect to SeAH and will issue appropriate assessment instructions to CBP.

Administrative Protective Orders

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Tariff Act of 1930, as amended.

James J. Jochum,
Assistant Secretary for Import Administration.

[FR Doc. 04-14123 Filed 6-21-04; 8:45 am]

BILLING CODE 3510-DS-P